FEDERAL DEPOSIT INSURANCE CORPORATION

[OMB No. 3064-0095; -0218]

Agency Information Collection Activities: Proposed Collection Renewal; Comment Request

AGENCY: Federal Deposit Insurance Corporation (FDIC).

ACTION: Notice and request for comment.

SUMMARY: The FDIC, as part of its obligations under the Paperwork Reduction Act of 1995, invites the general public and other Federal agencies to take this opportunity to comment on the request to renew the existing information collections described below (OMB Control No. 3064-0095 and -0218). The notices of proposed renewal for these information collections were previously published in the Federal Register on March 25, 2025, allowing for a 60-day comment period.

DATES: Comments must be submitted on or before June 16, 2025.

ADDRESSES: Interested parties are invited to submit written comments to the FDIC by any of the following methods:

• Agency Website: https://www.fdic.gov/resources/regulations/federal-register-publications/.

• Email: comments@fdic.gov. Include the name and number of the collection in the subject line of the message.

• Mail: Manny Cabeza (202-898-3767), Regulatory Counsel, MB-3128, Federal Deposit Insurance Corporation, 550 17th Street NW, Washington, DC 20429.

• Hand Delivery: Comments may be hand-delivered to the guard station at the rear of the 17th Street NW building (located on F Street NW), on business days between 7 a.m. and 5 p.m.

Written comments and recommendations for the proposed information collection should be sent within 30 days of publication of this notice to www.reginfo.gov/public/do/PRAMain. Find these particular information collections by selecting “Currently under 30-day Review—Open for Public Comments” or by using the search function.

FOR FURTHER INFORMATION CONTACT: Manny Cabeza, Regulatory Counsel, 202-898-3767, mcabeza@fdic.gov, MB-3128, Federal Deposit Insurance Corporation, 550 17th Street NW, Washington, DC 20429.

SUPPLEMENTARY INFORMATION: Proposal to renew the following currently approved collection of information:

1. Title: Procedures for Monitoring Bank Protection Act Compliance.

OMB Number: 3064-0095.

Form Number: None.

Affected Public: Insured State non-member banks.

Burden Estimate:

Summary of Estimated Annual Burden (OMB No. 3064-0095)
Information collection (IC) (obligation to respond) | Type of burden (frequency of response) | Number of respondents | Number of responses per respondent | Average time per response (HH:MM) | Annual burden (hours)
1. Bank Protection Act Compliance Program—Implementation, 12 CFR 326 subpart A (Mandatory) | Recordkeeping (Annual) | 9 | 1 | 16:00 | 144
2. Bank Protection Act Compliance Program—Ongoing, 12 CFR 326 subpart A (Mandatory) | Recordkeeping (Annual) | 2,882 | 1 | 6:00 | 17,292
3. Procedures for monitoring Bank Secrecy Act compliance—Implementation, 12 CFR 326.8(b)(1) & (c) (Mandatory) | Recordkeeping (Annual) | 9 | 1 | 32:00 | 288
4. Procedures for monitoring Bank Secrecy Act compliance—Ongoing, 12 CFR 326.8(b)(1) & (c) (Mandatory) | Recordkeeping (Annual) | 2,882 | 1 | 8:00 | 23,056
Total Annual Burden (Hours) |  |  |  |  | 40,780
Source: FDIC.

General Description of Collection: The collection implements recordkeeping requirements associated with the Bank Protection Act. The Bank Protection Act of 1968 (12 U.S.C. 1881-1884) requires each Federal supervisory agency to promulgate rules establishing minimum standards for security devices and procedures to discourage financial crime and to assist in the identification of persons who commit such crimes. To avoid the necessity of constantly updating a technology-based regulation, the FDIC takes a flexible approach to implementing this statute. It requires each insured non-member bank to designate a security officer who will administer a written security program. The security program must (1) establish procedures for opening and closing for business and for safekeeping valuables; (2) establish procedures that will assist in identifying persons committing crimes against the bank; (3) provide for initial and periodic training of employees in their responsibilities under the security program; and (4) provide for selecting, testing, operating and maintaining security devices as prescribed in the regulation. In addition, the FDIC requires the security officer to report at least annually to the bank's board of directors on the effectiveness of the security program. There is no change in the method or substance of the collection. The 9,670-hour decrease in burden is the result of the elimination of acquiring institutions as respondents, revisions to estimates of the time per response, as well as a decline in the number of FDIC-supervised institutions.

2. Title: Ombudsman Post-Examination Surveys.

OMB Number: 3064-0218.

Form Number: 6600/58; 6600/59.

Affected Public: FDIC-supervised insured depository institutions.

Burden Estimate:

Summary of Estimated Annual Burden (OMB No. 3064-0218)
Information collection (IC) (obligation to respond) | Type of burden (frequency of response) | Number of respondents | Number of responses per respondent | Average time per response (HH:MM) | Annual burden (hours)
1. Safety and Soundness Post-Examination Survey (Voluntary) | Reporting (Annual) | 492 | 1 | 00:45 | 369
2. Consumer Compliance Post-Examination Survey (Voluntary) | Reporting (Annual) | 329 | 1 | 00:45 | 247
Total Annual Burden (Hours) |  |  |  |  | 616
Source: FDIC.

General Description of Collection: The purpose of the surveys is to gauge bankers' views on the effectiveness and quality of FDIC Safety and Soundness and Consumer Compliance examinations, as well as to identify ways to improve the examination process. Respondents are asked to voluntarily rate the efficiency of the preexamination process; examiners' professionalism and understanding of the laws and regulations; the examination process; and examination report quality. Respondents will also be allowed to provide feedback on any areas for improvement and will be given an option to have someone from the FDIC Office of the Ombudsman contact the institution confidentially about its recent examination or any other matters. There is no change in the method or substance of the collection. The 251-hour decrease in burden is the result of the reduction in the estimated annual number of respondents.

Request for Comment

Comments are invited on (a) whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the collection of information on respondents, including through the use of automated collection techniques or other forms of information technology. All comments will become a matter of public record.

Federal Deposit Insurance Corporation.
Dated at Washington, DC, on May 12, 2025.
Jennifer M. Jones,
Deputy Executive Secretary.

[FR Doc. 2025-08603 Filed 5-14-25; 8:45 am]

BILLING CODE 6714-01-P